DEPARTMENT OF THE INTERIOR

Bureau of Land Management

[AK-910-1410-PG]

Alaska Resource Advisory Council Meeting

AGENCY: Bureau of Land Management, Interior.

ACTION: Notice of Alaska Resource Advisory Council meeting.

SUMMARY: The Alaska Resource Advisory Council will conduct an open meeting on Thursday, June 29, 2000, from 8:30 a.m. until noon. The meeting will be held in the Anchorage Federal Building at 7th and C Street in room 135.

Topics to be discussed at the meeting include standards for BLM resource management in Alaska, off-road vehicle use on public lands, and management of the Gulkana Wild and Scenic River. Public comment concerning items on the agenda will be heard from 11 a.m. until noon. Written comments may be submitted at the meeting or mailed to BLM at the address below.

Following the meeting, the council will travel to Glennallen in preparation for a site visit to the Gulkana River Friday, June 30, 2000.

ADDRESSES: Inquiries or comments should be sent to External Affairs, Bureau of Land Management, 222 W. 7th Avenue, #13, Anchorage, AK 99513-7599.

FOR FURTHER INFORMATION CONTACT: Teresa McPherson, (907) 271-5555.

Dated: May 17, 2000.
Brenda Zenan,
Acting State Director.

[FR Doc. 00-13903 Filed 6-2-00; 8:45 am]

BILLING CODE 4310-JA-M